DEPARTMENT OF HEALTH AND HUMAN SERVICES

Centers for Medicare & Medicaid Services

42 CFR Part 403

[CMS-1428-F3]

RIN-0938-AM80

Medicare Program; Changes to the Hospital Inpatient Prospective Payment System and Fiscal Year 2005 Rates: Fire Safety Requirements for Religious Non-Medical Health Care Institutions: Correction To Reinstate Requirements for Written Fire Control Plans and Maintenance of Documentation

AGENCY: Centers for Medicare & Medicaid Services (CMS), HHS.

ACTION: Final rule; correcting amendment.

SUMMARY: In the August 11, 2004 issue of the Federal Register (69 FR 48916), we published the Hospital Inpatient Prospective Payment System final rule. This correcting amendment reinstates paragraphs (a)(2) and (a)(3) in 42 CFR 403.744 (Condition of participation: Life safety from fire), which were accidentally deleted by that rule. Those paragraphs relate to requirements for fire control plans and maintenance of documentation in religious non-medical health care institutions. The effective date was October 1, 2004.

EFFECTIVE DATE: This correcting amendment is effective November 25, 2005.

FOR FURTHER INFORMATION CONTACT: Janice Graham, (410) 786-8020; Danielle Shearer, (410) 786-6617; or Jeannie Miller, (410) 786-3164.

SUPPLEMENTARY INFORMATION:

Need for Corrections

On November 30, 1999, we published an interim final rule with comment period titled “Religious Nonmedical Health Care Institutions and Advance Directives” (64 FR 67028) to adopt the 1997 edition of the Life Safety Code (LSC) for religious non-medical health care institutions (RNHCIs). We adopted the 1997 edition of the LSC because we believed that it provided the highest available level of protection for patients, staff, and the public at that time. The regulation also permitted a RNHCI to meet a fire and safety code imposed by State law if we found that the State-imposed code adequately protected patients. This interim final rule also added paragraphs (a)(2) and (a)(3) to the Life Safety from Fire Condition of Participation at 42 CFR 403.744. These paragraphs were added in order to ensure that RNHCIs had adequate fire plans in case of a fire emergency and to ensure that RNHCIs documented the fire safety inspections and approvals related to their State or local fire control agencies.

On January 10, 2003, we issued a final rule titled “Fire Safety Requirements for Certain Health Care Facilities” (68 FR 1374) amending the fire safety standards for RNHCIs that adopted, with certain exceptions, the 2000 edition of the LSC published by the National Fire Protection Association (NFPA). One of the exceptions to the 2000 edition of the LSC concerned the use of roller latches in health care facilities, including RNHCIs. In the 2003 final rule, we prohibited health care facilities, including RNHCIs, from having roller latches. The final rule provided a 3-year phase-in period to allow facilities time to replace their roller latches.

On August 11, 2004, we published the Hospital Inpatient Prospective Payment System (IPPS) final rule (69 FR 48916). In this final rule, we clarified the phase-in date of the roller latch provision, and accidentally deleted paragraphs (a)(2) and (a)(3), which stated:

• (a)(2) The religious non-medical health care institution (RNHCI) must have written fire control plans that contain provisions for prompt reporting of fires; extinguishing fires; protection of patients, staff, and the public; evacuation; and cooperation with fire fighting authorities.

• (a)(3) The RNHCI must maintain written evidence of regular inspection and approval by State or local fire control agencies.

This correcting amendment re-incorporates paragraphs (a)(2) and (3), which were inadvertently deleted from the regulations by the 2004 IPPS rule.

Collection of Information Requirements

This document does contain information collection requirements as summarized below. However, we believe the burden associated with these requirements is exempt from the requirements of the Paperwork Reduction Act of 1995 (PRA) as defined in 5 CFR 1320.3(b)(2) because the time, effort, and financial resources necessary to comply with the requirement would be incurred by persons in the normal course of their activities.

Section 403.744(a)(2) states that the RNHCI must have written fire control plans that contain provisions for prompt reporting of fires; extinguishing fires; protection of patients, staff and the public; evacuation; and cooperation with fire fighting authorities.

Section 403.744(a)(3) states that the RNHCI must maintain written evidence of regular inspection and approval by State or local fire control agencies.

Waiver of Proposed Rulemaking and Delayed Effective Date

We ordinarily publish a notice of proposed rulemaking in the Federal Register and invite public comment on the proposed rule. We also ordinarily provide a 30-day delay in the effective date of the provisions of a rule. The notice of proposed rulemaking includes a reference to the legal authority under which the rule is proposed, and the terms and substances of the proposed rule or a description of the subjects and issues involved. We can waive both the notice of proposed rulemaking and the 30-day delay in effective date, however, if the Secretary finds good cause that a notice-and-comment procedure and a 30-day delay in the effective date are impracticable, or contrary to the public interest and incorporates a statement of the finding and the reasons in the rule issued.

We believe that proceeding with notice and comment procedures and delaying the effective date are impracticable, and contrary to the public interest.

The notice and comment procedures and delay in the effective date are impracticable because delaying implementation of these provisions would hinder our ability to provide continuous safety standards for RNHCI patients. These requirements were established in order to protect the patients, facility staff, and the public, and they continue to be necessary in order to ensure that RNHCIs provide safe care.

Proceeding with notice and comment rulemaking and delaying the effective date would delay the restoration of these two paragraphs. During this delay, fire safety could be compromised because providers would not be required to maintain their written fire control plans or document their inspection and approval by State or local fire control agencies, two requirements that are key to ensuring patient safety. In addition, our ability to ensure compliance with § 403.738 would be impeded if facilities did not maintain documentation of their compliance with State or local inspections and approval processes, as required by applicable State or local laws, regulations, and codes.

Publishing a proposed rule and delaying the effective date are contrary to the public interest because of the imminent danger to life posed by failing to enforce the requirements of § 403.744(a)(2) and (a)(3). One of the major responsibilities of a RNHCI is to provide an environment for their patients, staff, and the public that includes safety measures as outlined in its fire safety plan. These requirements re-enforce the importance of continually providing and maintaining a safe environment for RNHCI patients.

Therefore, we find good cause to waive the notice of proposed rulemaking and delayed effective date and to issue this correcting amendment.

Corrections to Regulations Text

List of Subjects in 42 CFR Part 403

Grant programs-health, Health insurance, Hospitals, Intergovernmental relations, Medicare, Reporting and recordkeeping requirements.

Accordingly, 42 CFR chapter IV is corrected by making the following correcting amendments:

PART 403—SPECIAL PROGRAMS AND PROJECTS

1. The authority citations for part 403 continues to read as follows:

Authority: 42 U.S.C. 1395b-3 and Secs. 1102 and 1871 of the Social Security Act (42 U.S.C. 1302 and 1395hh).

2. Section 403.744 is corrected by adding paragraphs (a)(2) and (a)(3) to read as follows:

§ 403.744 Condition of participation: Life safety from fire.

(a) * * *

(2) The RNHCI must have written fire control plans that contain provisions for prompt reporting of fires; extinguishing fires; protection of patients, staff, and the public; evacuation; and cooperation with fire fighting authorities.

(3) The RNHCI must maintain written evidence of regular inspection and approval by State or local fire control agencies.

* * * * *

(Catalog of Federal Domestic Assistance Program No. 93.778, Medical Assistance Program)

(Catalog of Federal Domestic Assistance Program No. 93.773, Medicare—Hospital Insurance; and Program No. 93.774, Medicare—Supplementary Medical Insurance Program)

Dated: November 21, 2005.
Ann C. Agnew,
Executive Secretary to the Department.

[FR Doc. 05-23289 Filed 11-23-05; 8:45 am]

BILLING CODE 4120-01-P